DEPARTMENT OF HEALTH AND HUMAN SERVICES

Administration for Children and Families

Agency Recordkeeping/Reporting Requirements Under Emergency Review by the Office of Management and Budget (OMB)

Title: Grant Application Data Summary (GADS).

OMB No.: 0970-0328.

Description: The purpose of this request is to obtain an emergency OMB clearance of the Grant Application Data Summary (GADS) form to ensure information collected from all FY09 ANA grant applicants (in March 2009) is accurate.

The GADS collects information from applicants seeking grants from the Administration for Native Americans (ANA). ANA awards annual grants in nine competitive areas. Previously, ANA collected information using the GADS form for 4 competitive areas, not 9. The GADS form, which is part of the ANA discretionary grant application package, has been revised to comply with required changes made to the ADA FY09 Program Announcements (PAs). The PA5 were changed to comply with a new policy established by ACF requiring that subcategories within a PA be broken down into a stand-alone PA. On 12/5/08, ANA published nine PAs to support this new requirement for separate PA5; it was necessary for ANA to change the GADS form to reflect the new PA5. Below are the changes to the GADS form: (please select relevant topic under ONE heading)

(1) Special Initiative: Family Preservation: Improving the Well-Being of Children Planning; Curriculum Development; Community Assessment; Develop a Family Preservation Strategic Plan. Please choose all relevant topics from the selection below: Relationship and Marriage Education for Adults; Relationship and Marriage Education for Youth; Marriage Enrichment activities and services; Pre-marital education and marriage skills; Relationships Skills; Responsible Fatherhood or Parenting; Family preservation activities offered in a culturally appropriate and traditional manner; Absentee parent services, education and activities; Reduce child/infant abuse and neglect and family domestic violence; Needs of grandparents raising grandchildren; Foster Parent Training Family strengthening services to individuals with substance abuse issues; Public Advertising Campaigns; Research.

(2) Special Initiative: Family Preservation: Improving the Well-Being of Children Implementation Relationship & Marriage Education for Adults; Relationship & Marriage Education for Youth; Marriage Enrichment activities & services; Pre-marital education & marriage skills; Relationships Skills; Responsible Fatherhood; Parenting; Family preservation activities in a culturally appropriate & traditional manner; Absentee parent services, education & activities; Family Domestic Violence; Grandparents raising grandchildren; Foster Parent Training; Family strengthening services to individuals with substance abuse issues; Public Advertising Campaigns; Research.

(3) Native Language Preservation & Maintenance Assessment Data Collection; Formal Language Assessment; Informal Language Assessment.

(4) Native Language Preservation & Maintenance Planning Plan & design Master/Apprentice programs; Plan & design comprehensive Native language immersion programs for a language nest or survival school; Plan, design & test curriculum for students, parents & language instructors; Plan & design teaching materials; Record, transcribe & archive oral testimony; Plan & design language resource materials using recorded oral testimony; Plan & design multi-media language learning tools; Plan & design teacher certification programs; Train teachers, interpreters or translators of Native languages.

(5) Native Language Preservation & Maintenance Implementation Produce/disseminate culturally relevant printed stories for children using the Native language of the community; Facilitate/encourage intergenerational teaching of Native American language skills; Disseminate culturally relevant materials to teach & enhance the use of Native American languages; Implement an immersion, mentor or distance learning model; produce, distribute or participate in various media forms to broadcast Native languages; Implement an educational site based immersion project.

(6) Native Language Preservation & Maintenance Immersion Language Net; Language Survival School.

Respondents: Federally Recognized Indian Tribes, Tribal Governments, Native American Non-profits, Tribal Colleges and Universities.

Annual Burden Estimates
Instrument | Number of respondents | Number of responses per respondent | Average burden hours per response | Total burden hours
Grant Application Data Summary | 500 | 1 | 0.50 | 250

Estimated Total Annual Burden Hours: 250.

Additional Information:

ACF is requesting that OMB grant a 90 day approval for this information collection under procedures for emergency processing by March 12, 2009. A copy of this information collection, with applicable supporting documentation, may be obtained by calling The Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street, NW., Washington, DC 20503, (202) 395-4718.

Dated: February 23, 2009.
Robert Sargis,
Reports Clearance Officer.

[FR Doc. E9-4355 Filed 3-3-09; 8:45 am]

BILLING CODE 4184-01-M